GENERAL SERVICES ADMINISTRATION

41 CFR Part 102-34

[FMR Case 2011-102-2; Docket 2011-0011; Sequence 1]

RIN 3090-AJ14

Federal Management Regulation; Motor Vehicle Management

AGENCY: Office of Governmentwide Policy, General Services Administration (GSA).

ACTION: Proposed rule.

SUMMARY: The General Services Administration is proposing to amend the Federal Management Regulation (FMR) by revising current policy on the definitions relating to the rental versus the lease of motor vehicles. The proposed rule would increase the less than 60 continuous day rental timeframe to less than 120 continuous days and adjust the definition of the term “commercial lease or lease commercially” accordingly to allow for the instances when agencies have a valid temporary mission requirement for a motor vehicle of 60 continuous days or more in duration but of significantly fewer days in duration than is typically available under commercial leases, which commonly require a minimum lease period of one year.

DATES: Interested parties should submit comments in writing on or before August 1, 2011 to be considered in the formulation of a final rule.

ADDRESSES: Submit comments identified by FMR Case 2011-102-2 by any of the following methods:

• Regulations.gov: http://www.regulations.gov. Submit comments via the Federal eRulemaking portal by inputting “FMR Case 2011-102-2” under the heading “Enter Keyword or ID” and selecting “Search.” Select the link “Submit a Comment” that corresponds with “FMR Case 2011-102-2.” Follow the instructions provided at the “Submit a Comment” screen. Please include your name, company name (if any), and “FMR Case 2011-102-2” on your attached document.

• Fax: 202-501-4067.

• Mail: General Services Administration, Regulatory Secretariat (MVCB), 1275 First Street, NE., Rm. 783E, ATTN: Hada Flowers, Washington, DC 20417.

Instructions: Please submit comments only and cite FMR Case 2011-102-2, in all correspondence related to this case. All comments received will be posted without change to http://www.regulations.gov, including any personal and/or business confidential information provided.

FOR FURTHER INFORMATION CONTACT: For clarification of content, contact Mr. James Vogelsinger at (202) 501-1764 or e-mail at james.vogelsinger@gsa.gov. For information pertaining to status or publication schedules, contact the Regulatory Secretariat at (202) 501-4755. Please cite FMR Case 2011-102-2.

SUPPLEMENTARY INFORMATION:

A. Background

Currently, as provided in 41 CFR 102-34.35, a motor vehicle rental is limited to less than 60 continuous days. If an agency obtains a motor vehicle for 60 continuous days or more, then it is a commercial lease under current regulations. Agencies, however, often have a valid temporary mission requirement for a motor vehicle of 60 continuous days or more in duration but of significantly fewer days in duration than is typically available under commercial leases, which commonly require a minimum lease period of one year. Also, some agencies have requirements from time to time for additional vehicles for relatively short periods of time. As a result, agencies are turning to short-term rentals to meet these motor vehicle needs but have encountered impediments when those needs meet or exceed 60 continuous days but are less than a year (for which commercial leases are commonly available). In order to address these issues, GSA is proposing to amend section 102-34.35 of the FMR (41 CFR 102-34.35) to redefine the term “motor vehicle rental” to increase the less than 60 continuous day rental timeframe to less than 120 continuous days and adjust the definition of the term “commercial lease or lease commercially” accordingly. GSA is cognizant of the impact of such a proposed policy change on motor vehicle identification in that the identification requirements attach to Government motor vehicles only, a term that does not encompass motor vehicle rentals.

This proposed regulatory amendment would provide greater flexibility to Federal agencies in meeting their motor vehicle needs.

B. Executive Order 12866 and Executive Order 13563

Executive Orders 12866 and 13563 direct agencies to assess all costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. This is not a significant regulatory action and, therefore, was not subject to review under Section 6(b) of Executive Order 12866, Regulatory Planning and Review, dated September 30, 1993. This rule is not a major rule under 5 U.S.C. 804.

C. Regulatory Flexibility Act

This proposed rule would not have a significant economic impact on a substantial number of small entities within the meaning of the Regulatory Flexibility Act, 5 U.S.C. 601, et seq. This proposed rule is also exempt from the Regulatory Flexibility Act per 5 U.S.C. 553(a)(2) because it applies to agency management. However, this proposed rule is being published to provide transparency in the promulgation of Federal policies.

D. Paperwork Reduction Act

The Paperwork Reduction Act does not apply because the proposed changes to the FMR do not impose information collection requirements that require the approval of the Office of Management and Budget under 44 U.S.C. 3501, et seq.

E. Small Business Regulatory Enforcement Fairness Act

This proposed rule is exempt from Congressional review under 5 U.S.C. 801 since it relates solely to agency management and personnel.

List of Subjects in 41 CFR Part 102-34

Energy conservation, Government property management, Motor Vehicle Management, Reporting and recordkeeping requirements.

Dated: March 14, 2011.
Kathleen M. Turco,
Associate Administrator.

For the reasons set forth in the preamble, GSA proposes to amend 41 CFR part 102-34 as set forth below:

PART 102-34—MOTOR VEHICLE MANAGEMENT

1. The authority citation for 41 CFR part 102-34 continues to read as follows:

Authority: 40 U.S.C. 121(c); 40 U.S.C. 17503; 31 U.S.C. 1344; 49 U.S.C. 32917; E.O. 12375.

2. In § 102-34.35, revise the definitions of the terms “Commercial lease or lease commercially” and “Motor vehicle rental” to read as follows:

§ 102-34.35 What definitions apply to this part?

* * * * *

Commercial lease or lease commercially means obtaining a motor vehicle by contract or other arrangement from a commercial source for 120 continuous days or more. (Procedures for purchasing and leasing motor vehicles through GSA can be found in 41 CFR subpart 101-26.5).

* * * * *

Motor vehicle rental means obtaining a motor vehicle by contract or other arrangement from a commercial source for less than 120 continuous days.

* * * * *

[FR Doc. 2011-13215 Filed 5-31-11; 8:45 am]

BILLING CODE 6820-14-P